DEPARTMENT OF JUSTICE

Antitrust Division

Notice Pursuant to the National Cooperative Research and Production Act of 1993—National Armaments Consortium

Notice is hereby given that, on April 20, 2018, pursuant to Section 6(a) of the National Cooperative Research and Production Act of 1993, 15 U.S.C. 4301 et seq. (“the Act”), National Armaments Consortium (“NAC”) has filed written notifications simultaneously with the Attorney General and the Federal Trade Commission disclosing changes in its membership. The notifications were filed for the purpose of extending the Act's provisions limiting the recovery of antitrust plaintiffs to actual damages under specified circumstances. Specifically, Base Design LLC, Wake Forest, NC; Agile Defense, Inc., Reston, VA; Arizona State University Research Enterprise (ASURE), Scottsdale, AZ; ARRS Technologies, LLC, San Diego, CA; Ascent Vision Technologies, LLC, Belgrade, MT; Bachstein Consulting LLC, Raymond, NH; Barden Brook Solutions, Bloomfield Hills, MI; Binergy Scientific Inc., Atlanta, GA; BlankSafe LLC, San Juan Bautista, CA; Calculagraph Co DBA Control Products, Inc., East Hanover, NJ; Chemimage Biothreat, LLC d/b/a Chemimage Sensor Systems, Pittsburgh, PA; CMI Defence America, Sterling Heights, MI; CTC Enterprise Ventures Corporation (EVC), Johnstown, PA; Dynamic Matter LLC, Englewood, CO; Fiber Materials, Inc., Biddeford, ME; FLIR Systems, Inc., North Billerica, MA; Harbour Mechanical Corporation, Hoboken, NJ; Harris Corporation, Roanoke, VA; Hill Technical Solutions, Inc., Huntsville, AL; Intellisense Systems, Inc., Torrance, CA; Knobley Technical Associates LLC, Rocket Center, WV; Lithium Battery Engineering, LLC, Randolph, NJ; Lynntech, Inc., College Station, TX; Mainstream Engineering Corporation, Rockledge, FL; MAJR Mechatronics Corp, Sebring, FL; MegaWave Corporation, Devens, MA; Mustang Vacuum Systems, Inc., Sarasota, FL; NAVSYS Corporation, Colorado Springs, CO; NBS Enterprises, LLC, Leesburg, VA; North Star Systems, Inc., Birmingham, AL; Novateur Research Solutions LLC, Leesburg, VA; Novetta, Inc., McLean, VA; nP Technology LLC, Colorado Springs, CO; Nutronics, Inc., Longmont, CO; nVision Technology, Inc, Norton, OH; OASYS, INC., Huntsville, AL; Olin Corporation—Winchester Division, East Alton, IL; Optek Global Solutions, Inc., Los Angeles, CA; Ordnance Technology Service, Inc., Mentor, OH; Ormond, LLC, Auburn, WA; Peak Nano Optics, LLC, Coppel, TX; Piasecki Aircraft Corporation, Essington, PA; Polaris Contract Manufacturing, Inc., Marion, MA; PolyK Technologies, LLC, State College, PA; PPI-Time Zero, Inc., Fairfield, NJ; Princeton Infrared Technologies, Inc., Monmouth, NJ; Qynergy Corporation, Albuquerque, NM; RADA Technologies LLC, Silver Spring, MD; Redfish Trading, LLC, San Antonio, TX; Riptide Autonomous Solutions, Plymouth, MA; Robert Doto Associates, LLC, Sun City Center, FL; Senvol LLC, New York, NY; Sierra Nevada Corporation, Sparks, NV; SiliconScapes, LLC, State College, PA; Solid Innovations, LLC, East Stroudsburg, PA; Space Vector Corporation, Chatsworth, CA; SPIRE Manufacturing Solutions, LLC, Colorado Springs, CO; Stockdale & Associates, Indianapolis, IN; Strategic Marketing Innovations, Inc., Washington, DC; Technology and Communications Systems Inc., Clearwater, FL; Teledyne Brown Engineering, Inc., Huntsville, AL; Telephonies Corporation, Farmingdale, NY; TERMA North America Inc., Warner Robins, GA; Total Reliant Consulting, Boerne, TX; T-Worx Holdings, LLC, Ashburn, VA; UDC USA Inc., Tampa, FL; United Protective Technologies LLC, Locus, NC; University of Delaware, Newark, DE; VK Integrated Systems, Fullerton, CA; Volans-I, INC., San Francisco, CA; VT Miltope Corporation, Hope Hull, AL; WMD Guns, LLC, Stuart, FL; and ZedaSoft, Inc., Fort Worth, TX have been added as parties to this venture.

Also, 3D Systems, Inc., Rock Hill, SC; Advanced Ceramics Manufacturing, Tucson, AZ; Alaire Technologies Inc., Lorton, VA; Arco Global Services Corp., Corpus Christi, TX; Aria Microwave Systems, Inc., Teaneck, NJ; KYNTEC Corporation, Cheektowaga, NY; Metamagnetics Inc., Westborough, MA; Mission Critical Solutions, LLC, Alum Bank, PA; Riptide Software, Inc., Oviedo, FL; and Vista Outdoor Sales LLC, Anoka, MN, have withdrawn as parties to this venture.

No other changes have been made in either the membership or planned activity of the group research project. Membership in this group research project remains open, and NAC intends to file additional written notifications disclosing all changes in membership.

On May 2, 2000, NAC filed its original notification Pursuant to Section 6(a) of the Act. The Department of Justice published a notice in the Federal Register pursuant to Section 6(b) of the Act on June 30, 2000 (65 FR 40693).

The last notification was filed with the Department on April 19, 2018. A notice was published in the Federal Register pursuant to Section 6(b) of the Act on May 21, 2018 (83 FR 23486).

Suzanne Morris
Chief, Premerger and Division Statistics Unit, Antitrust Division.

[FR Doc. 2018-16705 Filed 8-3-18; 8:45 am]

BILLING CODE 4410-11-P